DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of July 8, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Bristol County, Massachusetts (All Jurisdictions)
Docket No.: FEMA-B-1842
City of Fall River | City Hall, 1 Government Center, Fall River, MA 02722.
City of New Bedford | City Hall, 133 William Street, New Bedford, MA 02740.
Town of Acushnet | Parting Ways Building, 130 Main Street, 2nd Floor, Acushnet, MA 02743.
Town of Dartmouth | Town Hall, 400 Slocum Road, Dartmouth, MA 02747.
Town of Fairhaven | Town Hall, 40 Center Street, Fairhaven, MA 02719.
Town of Freetown | Freetown Town Hall, 3 North Main Street, Assonet, MA 02702.
Town of Westport | Town Hall, 816 Main Road, Westport, MA 02790.
Lebanon County, Pennsylvania (All Jurisdictions)
Docket No.: FEMA-B-1903
Borough of Cleona | Borough Hall, 140 West Walnut Street, Cleona, PA 17042.
Borough of Cornwall | Borough Hall, 44 Rexmont Road, Cornwall, PA 17016.
Borough of Jonestown | Borough Building, 295 South Mill Street, Jonestown, PA 17038.
Borough of Mount Gretna | Borough Hall, 101 Chautauqua Drive, Mount Gretna, PA 17064.
Borough of Palmyra | Municipal Center, 325 South Railroad Street, Palmyra, PA 17078.
City of Lebanon | Municipal Building, 400 South 8th Street, Lebanon, PA 17042.
Township of Annville | Township Hall, 36 North Lancaster Street, Annville, PA 17003.
Township of Bethel | Bethel Township Office, 3015 South Pine Grove Street, Fredericksburg, PA 17026.
Township of East Hanover | East Hanover Township Office, 1117 School House Road, Annville, PA 17003.
Township of Heidelberg | Heidelberg Township Municipal Building, 111 Mill Road, Schaefferstown, PA 17088.
Township of Jackson | Jackson Township Municipal Building, 60 North Ramona Road, Myerstown, PA 17067.
Township of Millcreek | Millcreek Township Office, 81 East Alumni Avenue, Newmanstown, PA 17073.
Township of North Annville | North Annville Township Building, 1020 North Route 934, Annville, PA 17003.
Township of North Cornwall | North Cornwall Township Municipal Building, 320 South 18th Street, Lebanon, PA 17042.
Township of North Lebanon | North Lebanon Township Office, 725 Kimmerlings Road, Lebanon, PA 17046.
Township of North Londonderry | North Londonderry Township Municipal Center, 655 East Ridge Road, Palmyra, PA 17078.
Township of South Annville | South Annville Township Community Building, 1042 Horseshoe Pike, Lebanon, PA 17042.
Township of South Lebanon | South Lebanon Township Building, 1800 South 5th Avenue, Lebanon, PA 17042.
Township of South Londonderry | South Londonderry Municipal Township Building, 27 West Market Street, Palmyra, PA 17078.
Township of Swatara | Swatara Township Building, 68 Supervisors Drive, Jonestown, PA 17038.
Township of Union | Union Township Building, 3111 State Route 72, Jonestown, PA 17038.
Township of West Cornwall | West Cornwall Township Building, 73 South Zinns Mill Road, Lebanon, PA 17042.
Township of West Lebanon | West Lebanon Township Building, 322 North 22nd Street, Lebanon, PA 17046.

[FR Doc. 2020-11727 Filed 5-29-20; 8:45 am]

BILLING CODE 9110-12-P